DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on August 8, 2018, from 9:00 a.m. EDT to 5:00 p.m. EDT.

The board will meet in closed-session via web conference on August 8, 2018, from 9:00 a.m. EDT to 5:00 p.m. EDT to discuss the proposed Mandatory Guidelines for Federal Workplace Drug Testing Programs (hair specimens). Therefore, the meeting is closed to the public as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, http://www.samhsa.gov/about-us/advisory-councils/drug-testing-advisory-board-dtab or by contacting the Designated Federal Officer, CAPT Sean J. Belouin, USPHS.

Committee Name: Substance Abuse and Mental Health Services Administration's Drug Testing Advisory Board.

Dates/Time/Type: August 8, 2018, from 9:00 a.m. to 5:00 p.m. EDT: CLOSED.

Place: Web Conference.

Contact: CAPT Sean J. Belouin, USPHS, Senior Pharmacology and Regulatory Policy Advisor, Division of Workplace Programs, 5600 Fishers Lane, Room 16N06D, Rockville, Maryland 20857, Telephone: (240) 276-2600, Email: sean.belouin@samhsa.hhs.gov.

Carlos Castillo,
Committee Management Officer, SAMHSA.

[FR Doc. 2018-13116 Filed 6-18-18; 8:45 am]

BILLING CODE 4162-20-P